ENVIRONMENTAL PROTECTION AGENCY

[FRL-7104-2]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in Cement Kiln Recycling Coalition v. U.S. Environmental Protection Agency, No. 99-1457 (D.C. Cir.).

This case concerns a challenge to the rule entitled National Emission Standards for Hazardous Air Pollutants for Hazardous Waste Combustors, published in the Federal Register at 64 FR 52828 on September 30, 1999. These standards are based on the performance of Maximum Achievable Control Technology (MACT), and implement section 112(d) of the Clean Air Act.

A number of parties, representing different interests of both industrial sources and of the environmental community, sought judicial review of the rule. On July 24, 2001, the United States Court of Appeals for the District of Columbia Circuit granted the Sierra Club's petition for review and vacated the challenged portions of the rule. 255 F. 3d 855. The proposed settlement is between EPA and the Sierra Club and provides that EPA will promulgate final regulations fully compliant with the court's opinion and section 112(d) of the Clean Air Act by June 14, 2005.

For a period of thirty (30) days following the date of publication of this notice, EPA will receive written comments relating to the settlement from persons who were not named as parties to the litigation in question. EPA or the Department of Justice may withhold or withdraw consent to the proposed settlement if the comments disclose facts or circumstances that indicate that such consent is inappropriate, improper, inadequate, or inconsistent with the requirements of the Act.

EPA and the other parties to this case also have filed a joint motion with the court requesting that the court stay issuance of its mandate until February 14, 2002 so that EPA may issue interim regulations (i.e. regulations bridging the gap between February 14, 2002 and June 14, 2005) establishing emission standards for hazardous waste combustors, and making certain other amendments relating to implementation of those standards. The joint motion, and its attachment, set out in detail the steps EPA intends to take should the court grant the motion. Although this joint motion is not a settlement agreement, in order to provide context for the settlement agreement with Sierra Club which is the subject of this notice, we are also making available to the public for comment the joint motion and its attachment.

Copies of the settlement, and the joint motion plus attachment, are available from Phyllis Cochran, (202) 564-5566. Written comments should be sent to Steven Silverman, Office of General Counsel (2366A), U.S. Environmental Protection Agency, 1200 Pennsylvania Avenue, NW., Washington, DC 20460, and must be submitted on or before December 17, 2001.

Dated: November 1, 2001.
Alan W. Eckert,
Associate General Counsel.

[FR Doc. 01-28735 Filed 11-15-01; 8:45 am]

BILLING CODE 6560-50-P